FEDERAL COMMUNICATIONS COMMISSION

47 CFR Part 73

[DA 04-1079; MM Docket No. 01-115; RM-10129; 10325]

Radio Broadcasting Services; Alpena, Au Gres, Beaverton, Cheboygan, Frankfort, and Standish, MI

AGENCY: Federal Communications Commission.

ACTION: Proposed rule; dismissal.

SUMMARY: At the request of Au Gres Broadcasting Company, we dismiss its petition for rule making proposing the allotment of Channel 295A at Au Gres, Michigan, as the community's first local aural transmission service (RM-10129). See 66 FR 31597, June 12, 2001. As requested, we also dismiss the counterproposal of Fort Bend Broadcasting Company proposing the upgrade from Channel 257C2 to Channel 257C1 at Frankfort, Michigan, and the required channel substitutions to accommodate the upgrade (RM-10325). A showing of continuing interest is required before a channel will be allotted. It is the Commission's policy to refrain from making an allotment to a community absent an expression of interest.

FOR FURTHER INFORMATION CONTACT: Sharon P. McDonald, Media Bureau, (202) 418-2180.

SUPPLEMENTARY INFORMATION: This is a synopsis of the Commission's Report and Order, MM Docket No. 01-115, adopted April 22, 2004, and released April 27, 2004. The full text of this Commission decision is available for inspection and copying during normal business hours in the FCC Reference Information Center (Room CY-A257), 445 12th Street, SW., Washington, DC. The complete text of this decision may also be purchased from the Commission's copy contractors, Qualex International, Portals II, 445 12th Street, SW., Room CY-B402, Washington, DC 20554. This document is not subject to the Congressional Review Act.

Federal Communications Commission.
John A. Karousos,
Assistant Chief, Audio Division, Media Bureau.

[FR Doc. 04-11550 Filed 5-20-04; 8:45 am]

BILLING CODE 6712-01-P